DEPARTMENT OF LABOR

Occupational Safety and Health Administration

[Docket No. ICR-1218-0170(2003)]

Standard on 1,3-Butadiene; Extension of the Office of Management and Budget's (OMB) Approval of Information—Collection (Paperwork) Requirements

AGENCY: Occupational Safety and Health Administration (OSHA), Labor.

ACTION: Request for comment.

SUMMARY: OSHA solcits comments concerning its proposal to decrease the existing burden-hour estimates, and to extend OMB approval of the information-collection requirements of the 1,3-Butadiene Standard (29 CFR 1910.1051) ¹ The standard protects employees from adverse health effects from occupational exposure to 1,3-Butadiene.

¹ Based on its assessment of the paperwork requirements contained in this standard, the Agency estimates that the total burden hours decreased compared to its previous burden-hour estimate. Under this notice, OSHA is not proposing to revise the Standard's paperwork requirements, only to decrease the burden hours estimates impose by the existing paperwork requirements.

DATES: Comments must be submitted by the following dates:

Hard Copy. Your comments must be submitted (postmarked or sent) by May 12, 2003. Facsimile and electronic transmission: Your comments must be sent by May 12, 2003.

ADDRESSES:

I. Submission of Comments

Regular mail, express delivery, hand-delivery, and messenger service: Submit your comments and attachments to the OSHA Docket Office, Docket No. ICR 1218-0170(2003), Room N-2625, U.S. Department of Labor, 200 Constitution Avenue, NW., Washington, DC 20210. OSHA Docket Office, and Department of Labor hours of operation are 8:15 a.m. to 4:45 p.m, EST.

Facsimile: If your comments, including any attachments, are 10 pages or fewer, you may fax them to the OSHA Docket Office at (202) 693-1648. You must include the docket number of this document, Docket No. ICR 1218-0170(2003), in your comments.

Electronic: You may submit comments, but not attachments, through the Internet at http://ecomments.osha.gov/.

(Please see the Supplementary Information below for additional information on submitting comments.)

II. Obtaining Copies of Supporting Statement for the Information Collection

The Supporting Statement for the Information Collection is available for downloading from OSHA's Web site at www.osha.gov. The supporting statement is available for inspection and copying in the OSHA Docket Office, at the address listed above. A printed copy of the supporting statement can be obtained by contacting Todd Owen at (202) 693-2222.

FOR FURTHER INFORMATION CONTACT: Todd Owen, Directorate of Standards and Guidance, OSHA, U.S. Department of Labor, Room N-3609, 200 Constitution Avenue, NW., Washington, DC 20210; telephone (202) 693-2222.

SUPPLEMENTARY INFORMATION:

I. Submission of Comments on this Notice and Internet Access to Comments and Submissions

You may submit comments in response to this document by (1) Hard copy, (2) FAX transmission (facsimile), or (3) electronically through the OSHA website. Please note you cannot attach materials such as studies or journal articles to electronic comments. If you have additional materials, you must submit three copies of them to the OSHA Docket Office at the address above. The additional materials must clearly identify your electronic comments by name, date, subject and docket number so we can attach them to your comments. Because of security-related problems there may be a significant delay in the receipt of comments by regular mail. Please contact the OSHA Docket Office at (202) 693-2350 for information about security procedures concerning the delivery of materials by express delivery, hand delivery and messenger service.

II. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and costs) is minimal, collection instruments are clearly understood, and OSHA's estimate of the information-collection burden is correct. The Occupational Safety and Health Act of 1970 (the Act) authorizes information collection by employers as necessary or appropriate for enforcement of the Act or for developing information regarding the causes and prevention of occupational injuries, illnesses, and accidents (29 U.S.C. 657). In this regard, the information collection requirements in the 1,3-Butadiene Standard provide protection for employees from the adverse health effects associated with exposure to 1,3-Butadiene.

III. Special Issues for Comment

OSHA has a particular interest in comments on the following issues:

• Whether the proposed information-collection requirements are necessary for the proper performance of the Agency's functions, including whether the information is useful;

• The accuracy of OSHA's estimate of the burden (time and costs) of the information-collection requirements, including the validity of the methodology and assumptions used;

• The quality, utility, and clarity of the information collected; and

• Ways to minimize the burden on employers who must comply; for example, by using automated or other technological information-collection and transmission techniques.

IV. Proposed Actions

OSHA proposes to decrease the existing burden-hour estimates, and to extend OMB approval of the information-collection requirements of the 1,3-Butadiene Standard (29 CFR 1910.1051). The 1,959 burden hour reduction is a result of reestimating the number of respirator filter elements that must be labeled.

The 1,3-Butadiene Standard requires employers to monitor employee exposure to 1,3-Butadiene; develop and maintain compliance and exposure-goal programs if employee exposures to 1,3-Butadiene are above the Standard's permissible exposure limits or action level; label respirator filter elements to indicate the date and time it is first installed on the respirator; establish medical surveillance programs to monitor employee health, and to provide employees with information about their exposures and the health effects of exposure to 1,3-Butadiene.

OSHA will summarize the comments submitted in response to this notice, and will include this summary in the request to OMB to extend the approval of the information collection requirements contained in the 1,3-Butadiene Standard (29 CFR 1910.1051).

Type of Review: Extension of a currently-approved information-collection requirement.

Title: 1,3 Butadiene Standard (29 CFR 1910.1051).

OMB Number: 1218-0170.

Affected Public: Business or other for-profit.

Number of Respondents: 115.

Frequency: On occasion.

Total Responses: 3,532.

Average Time per Response: Time per response ranges from 5 minutes to maintain records to 2 hours to complete a referral medical examination.

Estimated Total Burden Hours: 950.

Estimated Cost (Operation and Maintenance): $82,010.

III. Authority and Signature

John L. Henshaw, Assistant Secretary of Labor for Occupational Safety and Health, directed the preparation of this notice. The authority for this notice is the Paperwork Reduction Act of 1995 (44 U.S.C. 3506), and Secretary of Labor's Order No 5-2002 (67 FR 65008).

Signed at Washington, DC on March 5, 2003.
John L. Henshaw,
Assistant Secretary of Labor.

[FR Doc. 03-5612 Filed 3-10-03; 8:45 am]

BILLING CODE 4510-26-M